FEDERAL COMMUNICATIONS COMMISSION

47 CFR Part 73

[FCC 02-100, MM Docket Nos. 89-120, 90-195, 91-352, 92-214]

FM Broadcasting Services; Northwye, Cuba, Waynesville, Lake Ozark, and Eldon, Missouri; Brookline, Missouri; Ava, Branson, and Mountain Grove, Missouri; and Columbia, Bourbon, Leasburg, Gerald, Dixon, and Cuba, Missouri

AGENCY: Federal Communications Commission.

ACTION: Final rule; application for review denied.

SUMMARY: The Commission denied an application for review filed by Lake Broadcasting, the former licensee, inter alia, of Station KBMX(FM), Eldon, Missouri. The Commission held that the staff properly dismissed as moot Lake's petition for reconsideration in MM Docket 89-120, seeking to upgrade the class of the Eldon station, because the license for Station KBMX(FM), as well as the other stations licensed to Lake or controlled by its principal shareholder, Michael Rice, had been revoked and those actions became final and no longer subject to judicial review. See 66 FR 58409 (November 21, 2001).

FOR FURTHER INFORMATION CONTACT: Andrew J. Rhodes, Media Bureau, (202) 418-2180.

SUPPLEMENTARY INFORMATION: This is a synopsis of the Commission's Memorandum Opinion and Order, MM Dockets 89-120, 90-195, 91-352, and 92-214, adopted March 27, 2002, and released April 18, 2002. The full text of this Commission decision is available for inspection and copying during normal business hours in the Commission's Reference Information Center (room CY-A257), 445 12th Street, S.W., Washington, DC 20554. The complete text of this decision may be also purchased from the Commission's copy contractor, Qualex International Portals II, 445 12th Street, SW, Room CY-B402, Washington, DC, 20554.

List of Subjects in 47 CFR Part 73

Radio broadcasting.

Federal Communications Commission.
Marlene Dortch,
Secretary.

[FR Doc. 02-10595 Filed 4-29-02; 8:45 am]

BILLING CODE 6712-01-P